ENVIRONMENTAL PROTECTION AGENCY

40 CFR Part 262

[EPA-HQ-RCRA-2003-0012; FRL-9240-6]

Technical Corrections to the Standards Applicable to Generators of Hazardous Waste; Alternative Requirements for Hazardous Waste Determination and Accumulation of Unwanted Material at Laboratories Owned by Colleges and Universities and Other Eligible Academic Entities Formally Affiliated With Colleges and Universities

AGENCY: Environmental Protection Agency (EPA).

ACTION: Proposed rule.

SUMMARY: EPA is proposing six technical corrections to an alternative set of hazardous waste generator requirements known as the “Academic Laboratories rule” or “Subpart K” which is applicable to laboratories owned by eligible academic entities. These changes correct errors published in the Academic Laboratories Final rule, including omissions and redundancies, as well as remove an obsolete reference to the Performance Track program which has been terminated. These technical corrections will improve the clarity of the Academic Laboratories rule.

DATES: Written comments must be received by January 19, 2011.

ADDRESSES: Submit your comments, identified by Docket ID No. EPA-HQ-RCRA-2003-0012 by one of the following methods:

• http://www.regulations.gov: Follow the on-line instructions for submitting comments.

• E-mail: rcra-docket@epa.gov.

• Fax: 202-566-9794.

• Mail: RCRA Docket, Environmental Protection Agency, Mailcode: 28221T, 1200 Pennsylvania Ave., NW., Washington, DC 20460.

• Hand Delivery: EPA West Building, Room 3334, 1301 Constitution Ave., NW., Washington, DC 20460. Such deliveries are only accepted during the Docket's normal hours of operation, and special arrangements should be made for deliveries of boxed information.

Instructions: Direct your comments to Docket ID No. EPA-HQ-2003-0012. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/dockets.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the RCRA Docket, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the RCRA Docket is (202) 566-0270.

FOR FURTHER INFORMATION CONTACT: Kristin Fitzgerald, Office of Resource Conservation and Recovery, (5304P), Environmental Protection Agency, 1200 Pennsylvania Ave., NW., Washington, DC 20460; (703) 308-8286; Fitzgerald.Kristin@epa.gov.

SUPPLEMENTARY INFORMATION:

I. Why is EPA issuing this proposed rule?

EPA is proposing six technical corrections that clarify the Academic Laboratories rule. In the “Rules and Regulations” section of today's Federal Register, EPA is making these technical corrections as a Direct Final rule without a prior Proposed rule because we view this as a noncontroversial action and anticipate no adverse comment. We have explained our reasons for this action in the preamble to the Direct Final rule. If we receive no adverse comment on any of the individual changes we are promulgating today, we will not take further action on this Proposed rule. If, however, we receive such comment, we will publish a timely withdrawal in the Federal Register to notify the public that those technical corrections of the Direct Final rule for which the Agency received adverse comment will not take effect, and the reason for such withdrawal. We do not intend to institute a second comment period on this action. Any parties interested in commenting must do so at this time. For further information, please see the information provided in the ADDRESSES section of this document.

II. Does this action apply to me?

This rule proposes to amend subpart K of 40 CFR part 262. Entities potentially affected by this action are any of the following which generate hazardous waste in laboratories: (1) Colleges and universities; (2) non-profit research institutes that are either owned by or have a formal written affiliation agreement with a college or university; and (3) teaching hospitals that are either owned by or have a formal written affiliation agreement with a college or university.

NAICS Codes of Entities Potentially Affected by This Proposed Rule
NAICS codes | Description of NAICS code
Colleges and Universities:
6112, 61121, 611210 | Junior Colleges.
6113, 61131, 611310 | Colleges, Universities, and Professional Schools.
6115, 61151 | Technical and Trade Schools.
611519 | Other Technical and Trade Schools.
61161, 611610 | Fine Arts Schools.
Teaching Hospitals:
54194, 541940 | Veterinary Services (Animal Hospitals).
622 | Hospitals.
6221, 62211, 622110 | General Medical and Surgical Hospitals.
6222, 62221, 622210 | Psychiatric and Substance Abuse Hospitals.
6223, 62231, 622310 | Specialty (except Psychiatric and Substance Abuse) Hospitals.
Non-profit Research Institutes:
5417, 54171, 541710 | Research and Development in the Physical, Engineering, and Life Sciences.
54172, 541720 | Research and Development in the Social Sciences and Humanities.

III. Statutory and Executive Order Reviews

For a complete discussion of all the administrative requirements applicable to this action, see the Direct Final rule in the “Rules and Regulations” section of this Federal Register.

A. Regulatory Flexibility Act

The Regulatory Flexibility Act (RFA) generally requires an agency to prepare a regulatory flexibility analysis of any rule subject to the notice and comment rulemaking requirements under the Administrative Procedure Act or any other statute unless the agency certifies that the rule will not have a significant economic impact on a substantial number of small entities. Small entities include small businesses, small organizations, and small governmental jurisdictions.

For purposes of assessing the impacts of today's proposed rule on small entities, small entity is defined as: (1) A small business as defined by the Small Business Administrations' regulations at 13 CFR 121.201; (2) a small governmental jurisdiction that is a government of a city, county, town, school district or special district with a population of less than 50,000; and (3) a small organization that is any not-for-profit enterprise which is independently owned and operated and is not dominant in its field.

After considering the economic impact of today's Proposed Rule on small entities, I certify that this action will not have a significant economic impact on a substantial number of small entities. This action does not create any new regulatory requirements, but rather makes technical corrections to subpart K of the hazardous waste generator regulations. Although this Proposed rule will not have a significant economic impact on a substantial number of small entities, EPA nonetheless has tried to reduce the impact of this Proposed rule on small entities.

List of Subjects in 40 CFR Part 262

Environmental protection, Exports, Hazardous materials transportation, Hazardous waste, Imports, Labeling, Packaging and containers, Reporting and recordkeeping requirements.

Dated: December 13, 2010.
Mathy Stanislaus,
Assistant Administrator, Office of Solid Waste and Emergency Response.

[FR Doc. 2010-31744 Filed 12-17-10; 8:45 am]

BILLING CODE 6560-50-P